DEPARTMENT OF COMMERCE

National Oceanic and Atmospheric Administration

[RTID 0648-XD435]

Determination of Overfishing or an Overfished Condition

AGENCY: National Marine Fisheries Service (NMFS), National Oceanic and Atmospheric Administration (NOAA), Commerce.

ACTION: Notice.

SUMMARY: This action serves as a notice that NMFS, on behalf of the Secretary of Commerce (Secretary), has found that summer flounder is now subject to overfishing and thorny skate remains overfished. NMFS, on behalf of the Secretary, is required to provide this notice whenever it determines that a stock or stock complex is subject to overfishing, overfished, or approaching an overfished condition.

FOR FURTHER INFORMATION CONTACT: Caroline Potter, (301) 427-8522.

SUPPLEMENTARY INFORMATION: Pursuant to section 304(e)(2) of the Magnuson-Stevens Fishery Conservation and Management Act, 16 U.S.C. 1854(e)(2), NMFS, on behalf of the Secretary, must publish a notice in the Federal Register whenever it determines that a stock or stock complex is subject to overfishing, overfished, or approaching an overfished condition.

NMFS has determined that summer flounder is now subject to overfishing. The summer flounder determination is based on the most recent assessment, completed in 2023, using data through 2022, which indicates that the stock is subject to overfishing because the fishing mortality rate is greater than the maximum fishing mortality threshold. NMFS has notified the Mid-Atlantic Fishery Management Council of the requirement to end overfishing of summer flounder.

NMFS has determined that thorny skate remains overfished. The thorny skate determination is based on an update assessment completed in 2022, using data through 2021, which indicates that the stock remains overfished because the 2-year average biomass index is less than the minimum stock size threshold. NMFS continues to work with the New England Fishery Management Council to rebuild thorny skate.

Dated: October 31, 2023.
Jennifer M. Wallace,
Acting Director, Office of Sustainable Fisheries, National Marine Fisheries Service.

[FR Doc. 2023-24425 Filed 11-3-23; 8:45 am]

BILLING CODE 3510-22-P